SMALL BUSINESS ADMINISTRATION

[Declaration of Disaster #3436]

Federated States of Micronesia

As a result of the President's major disaster declaration for Public Assistance on July 11, 2002, and Amendment 1 adding Individual Assistance on July 26, 2002, I find that the Federated States of Micronesia constitute a disaster area due to damages caused by Tropical Storm Chata'an, including flooding, mudslides and landslides occurring on July 2-4, 2002. Applications for loans for physical damage as a result of this disaster may be filed until the close of business on September 24, 2002 and for economic injury until the close of business on April 28, 2003 at the address listed below or other locally announced locations: Small Business Administration, Disaster Area 4 Office, PO Box 13795, Sacramento, CA 95853-4795.

The interest rates are:

| Percent
For Physical Damage:
Homeowners with Credit Available Elsewhere | 6.750
Homeowners without Credit Available Elsewhere | 3.375
Businesses with Credit Available Elsewhere | 7.000
Businesses and Non-Profit Organizations without Credit Available Elsewhere | 3.500
Others (Including Non-Profit Organizations) with Credit Available Elsewhere | 6.375
For Economic Injury:
Businesses and Small Agricultural Cooperatives without Credit Available Elsewhere | 3.500

The number assigned to this disaster for physical damage is 343611 and for economic injury the number is 9Q8700.

(Catalog of Federal Domestic Assistance Program Nos. 59002 and 59008).
Dated: August 1, 2002.
Herbert L. Mitchell,
Associate Administrator for Disaster Assistance.

[FR Doc. 02-20094 Filed 8-7-02; 8:45 am]

BILLING CODE 8025-01-P